DEPARTMENT OF AGRICULTURE

Forest Service

Lake Tahoe Basin Management Unit, California, South Shore Fuel Reduction and Healthy Forest Restoration EIS/EIR

AGENCY: Forest Service, USDA.

ACTION: Notice of intent to prepare a joint environmental impact statement/report.

SUMMARY: Notice is hereby given that the USDA Forest Service, Lake Tahoe Basin Management Unit (LTBMU), together with the Lahontan Regional Water Quality Control Board will prepare a joint Environmental Impact Statement (EIS/EIR) and Environmental Inpact Report (EIR) to disclose the impacts associated with the following proposed action: Reduction of hazardous fuels and restoration of healthy forest conditions on approximately 12,500 acres within the South Shore area of the LTBMU, extending from the southeast shore of Cascade Lake eastward to the border between the States of California and Nevada and extending from the southern shore of Lake Tahoe southward to include the California State Highway 89 corridor.

This project is proposed under authority of the Healthy Forest Restoration Act of 2003. The Forest Service is the lead Federal agency for the preparation of this EIS/EIR in compliance with the National Environmental Policy Act (NEPA) and all other applicable laws, executive orders, regulations, and direction. The Lahontan Regional Water Quality Control Board (LRWQCB) is the lead State of California agency for the preparation of the EIS/EIR in compliance with the California Environmental Quality Act (CEQA), and all other applicable laws and regulations. Both agencies have determined an EIS/EIR is needed to effectively analyze the proposal and evaluate impacts.

Reduction of hazardous fuels would be accomplished by thinning to remove ladder fuels and reduce over-crowding in forest stands, removal of excessive fuel loads on the ground, mastication, chipping, and prescribed burning. Resoration of Healthy forest conditions would be accomplished by removal of conifer encroachement from meadows and aspen stands, retention of Jeffrey and sugar pine species to restore a historic species mix more resistant to fire, and thinning to improve resistance to crown fire, drought, insects, and disease.

DATES: The comment period on the proposed action will extend 30 days from the date this Notice of Intent is published in the Federal Register. Because there have been no changes to the proposed action since it was initially scoped in July 2007, previously submitted comments on this project will be retained; those who previously submitted comments on this project need not repeat their comments.

Completion of the joint Draft Environmental Impact Statement/Draft Environmental Impact Report (DEIS/DEIR) is expected in April 2008 and the Final Environmental Impact Statement/Final Environmental Impact Report (FEIS/FEIR) is expected in August 2008.

ADDRESSES: Send written comments to South Shore Project, Lake Tahoe Management Unit, 35 College Drive, South Lake Tahoe, CA 96150. Electronic comments must be submitted in a format such as an email message, plain text (.txt), rich text format (.rtf), or Word (.doc) to comments-pacificsouthwest-ltbmu@fs.fed.us.

FOR FURTHER INFORMATION CONTACT: Requests for copies of the Proposed Action or further information may be addressed to South Shore Project, Lake Tahoe Basin Management Unit, 35 College Drive, South Lake Tahoe, CA 96150. Telephone or e-mail contacts for the project are the Interdisciplinary Team Co-leaders: Duncan Leao (phone 530-543-2660, e-mail dleao@fs.fed.us); or Sue Rodman, (phone 530-621-5298, e-mail srodman@fs.fed.us ). The complete proposed action, including a map of proposed treatment areas, is available on the LTBMU Web site, at http://www.fs.fed.us/r5/ltbmu/projects, under South Shore Fuels Reduction and Healthy Forest Restoration Project Proposed Action—July 2007.

SUPPLEMENTARY INFORMATION: This proposal was developed through coordination and collaboration with the Washoe Tribe of Nevada and California, the City of South Lake Tahoe Fire Department, Lake Valley Fire Protection District, Tahoe Douglas Fire Protection District, Fallen Leaf Fire Department, Lahontan Regional Water Quality Control Board (LRWQCB), Tahoe Regional Planning Agency (TRPA), and the public during February and March of 2007. The Proposed action was mailed to interested and affected parties in July of 2007. Field trips to a series of 3 sites for an on-the-ground look at types of areas proposed to receive fuel treatments by the South Shore Fuel Reduction and Healthy Forest Restoration project were hosted by members of the Interdiciplinary Team on a Tuesday and a Saturday in August of 2007, along with an evening open house to provide the public an opportunity to ask questions and gather information about this project.

It is clear that existing conditions within the project area have the potential for fire to spread rapidly within the wildland urban intermix (WUI), communities, infrastructure, and other natural resources. Without treatment, hazardous fuels will increase annually, adding to an already high risk for catastrophic wildfire. This proposal will reduce fuel hazards and restore ecosystem health through vegetation treatments. All of the proposed treatment areas are within the WUI, in close proximity to homes, communities, and vital egress routes. Over 80 percent of the proposed treatments are within the WUI Defense Zone, defined as the zone within approximately a quarter mile of the places where people live and work. A primary objective of these fuel treatments would be reduction of hazardous fuels in order to change fire behavior, resulting in lower fire intensity and reduced rates of spread. While it is not possible to eliminate wildfire from the Sierra Nevada ecosystem, effective hazardous fuel reduction provides defensible space where fire suppression crews can work to reduce wildfire threat to communities. Streamside environment zones (SEZ) need thinning of live trees and removal of dead trees and hazardous ground fuels to reduce the potential for negative effects of a catastrophic wildfire in these environmentally sensitive areas. Wildlife habitat for sensitive species such as California spotted owl, Northern goshawk, osprey, and bald eagle are currently at risk for loss due to wildfire, and would benefit from thinning to change fire behavior while retaining forest habitat structure characteristics needed for wildlife. Providing healthy wildlife habitat and restoration of a forest structure with increased resistance to drought, disease, and insects are objectives that also reduce tree mortality and the rate of hazardous fuel build-up. Treatment prescriptions would modify fire behavior, provide defensible space for adjoining developed private lands, and where applicable, restore riparian vegetation communities (meadows, aspen stands, willow, etc.) through the removal of encroaching conifers. Urban lots owned by the National Forest System exhibit the same fuel loads and need for treatment as other areas in the Lake Tahoe Basin. Removal of hazardous fuels and thinning of dense stands is needed to reduce the potential for catastrophic wildfire and to provide defensible space for private land adjoining these urban lots. Urban lots with stream environment zones (SEZ) where conifer encroachment and fuels build up exists, and urban parcels in excess of 5 acres contiguous land base are included for treatment in the South Shore project area. No activities are proposed within Wilderness, and treatments would not create any new roads in Inventoried Roadless Areas.

Purpose and Need for Action

The following needs have been identified for this proposal:

1. There is a need for defensible space adjacent to communities in the South Shore area where fire suppression operations can be safely and effectively conducted in order to protect homes and communities from wildfires. (Fire Planning Process for the Urban-Wildland Interface in the City of South Lake Tahoe (Citygate Associates 2004); Community Wildfire Protection Plan for Lake Valley Fire Protection District, 2004; Community Wildfire Protection Plan for Fallen Leaf Fire Department, 2004, Community Wildfire Protection Plan for Tahoe-Douglas Fire Protection District, 2004; Lake Tahoe Watershed Assessment, USDA Pacific Southwest Research Station General Technical Report 175, 2000; South Shore Watershed Assessment, USDA Forest Service, 2004; Fuel Reduction and Forest Restoration for the Lake Tahoe Basin Wildland Urban Interface, Tahoe Regional Planning Agency, 2007).

2. There is a need for restoration of forest health in the South Shore area where stands of trees have become overly dense and surface fuels have accumulated to such a degree that uncharacteristic wildfires with sustained crown fire and long range spotting could quickly develop causing severe resource damage and threatening human life and property. In addition, overly dense forest stands often suffer stress from drought and competition for nutrients, which subjects them to widespread forest dieback from insects and diseases.

3. There is a need for restoration of meadows and aspen stands in the South Shore area in order to reduce the potential for catastrophic wildfire to spread through these areas, promote maintenance of meadows and aspen stands consistent with the TRPA and Pacific Southwest Research Station “Aspen Community Mapping and Condition Assessment Report” (USDA Forest Service, PSW-GTR-185), and provide wildlife habitat for species that are dependent on meadows and/or aspen.

In meeting the aforementioned needs the proposed action must also achieve the following purposes:

1. Meet wildlife habitat condition requirements for sensitive species of native (and desired non-native, for example rainbow trout) plants and animals, consistent with the Forest Plan and TRPA goshawk disturbance zones.

2. Achieve management direction in the LTBMU Management Plan as amended by the Sierra Nevada Forest Plan Amendment where the “desired condition” is for forests that “are fairly open and dominated primarily by larger, fire tolerant trees” within the WUI.

3. Assure that treatments in streamside environment zones (SEZs) favor riparian species while providing for large woody debris recruitment and stream shading needs.

4. Meet Water Quality Standards in the Water Quality Control Plan for the Lahontan Region.

5. Meet scenic quality objectives and stabilize scenic resources over the long-term in concert with achieving the desired conditions of stands that “are fairly open and dominated primarily by larger, fire tolerant trees.”

6. Meet air quality standards for the Lake Tahoe basin.

7. Prevent post-treatment establishment of user-created motorized or non-motorized routes or trails.

8. Address public safety during implementation of the project.

Proposed Action

The South Shore Fuels Reduction and Healthy Forest Restoration Project (South Shore project) would implement vegetative treatments to modify dense vegetation conditions on National Forest System lands within the project area, including Forest Service owned urban parcels containing Stream Environment Zones (SEZs) or parcels in excess of 5 contiguous acres in size. The South Shore project would use vegetative treatments to help restore a healthy, diverse, fire-resilient forest structure by reducing stand densities and fuel loads. The desired vegetative and fuels conditions would be stand densities that are within a range of 100-150 square feet basal area per acre. Treatments would retain tree species that are more drought-tolerant, and resistant to insects, diseases, and air pollution. Treatments would also retain tree species that have higher rates of survival after wildfire. Desired surface and ladder fuels would be less than 15 tons per acre so that the probability of crown fire ignition is reduced. The openness and discontinuity of crown fuels both horizontally and vertically would result in low probability of sustained crown fire. Within the 21 watersheds in the South Shore project area (90,000 acres), approximately 12,000 acres would be prioritized for treatment based on their proximity to places where people live and work (Defense and Threat Zones of the WUI). Existing fuel hazard levels, and other resource concerns such as watershed recovery, wildlife habitat requirements, and visual quality objectives will also factor into prioritization. Mechanical or hand fuels treatments are selected based on soil type, slope, and water quality concerns such as delivery of sediments to surface water. Treatment methods would include: Whole tree yarding, cut-to-length, biomass chipping, mastication, and prescribed burning, depending on the vegetation removal needs. Prescribed burning would be used to reduce fuels, remove slash created by treatment activities, and to re-introduce fire's ecological function. Scheduling of prescribed burn activities would comply with air quality standards and restrictions. Riparian conservation areas (RCAs), SEZs, meadows, and aspen stands needing fuels treatments would be evaluated for mechanical treatments, or would receive hand treatments. Treatment options would consider ground based mechanical treatments whenever slope, soils, and access allow (including SEZ areas).

Mechanical and hand thinning of both uplands and SEZs in National Forest urban lots would follow the same design features as described for vegetation and fuels objectives. Hand thinning of urban lots may remove trees up to 30” diameter at breast height (DBH) where necessary to meet fuels objectives and fuelwood utilization is feasible. On urban lots where fuelwood access is limited or impossible, hand thinning would be limited to trees up to 14″ DBH. Due to the close proximity of homes, roads, utilities and other improvements associated with development adjacent to urban lots, dead, dying, and diseased trees of all sizes often present a hazard to life and property. All trees identified as a hazard to life and property on National Forest urban lots would be removed regardless of diameter, including trees greater than 30″ DBH.

Sensitive plant locations would be flagged for avoidance where they may be negatively affected by project activities, buffered from mechanized equipment, and treated by hand to reduce hazardous fuels. Burn piles would not be located within the flagged sensitive plant area. Treat or flag noxious weed locations for avoidance where feasible prior to project implementation. Noxious weed prevention practices, such as washing equipment if the previous location is either unknown or is infested with weeds, would be implemented in compliance with the state and SNFPA (2004) standards.

Hazardous fuel reduction treatments are designed for WUI wildlife habitat areas to meet fuel objectives to change fire behavior and retain needed habitat charcteristics. Within northern goshawk Protected Activity Centers (PACs) and California spotted owl PACs fuel treatements are designed to result in at least: (1) Two tree canopy layers; (2) dominant and co-dominant trees with average diameters of 24 inches DBH; (3) 60 to 70 percent canopy cover; (4) an average of five to eight snags per acre larger than 20 inches DBH and of variable decay classes; and (5) 15 tons of coarse woody debris (CWD) per acre larger than 20 inches in diameter (at the large end) and of variable decay classes. Within California spotted owl Home Range Core Areas (HRCAs), and TRPA goshawk disturbance zones fuel reduction treaments are designed to result in at least: (1) Two tree canopy layers; (2) dominant and co-dominant trees with average diameters of 24 inches DBH; (3) 50 to 70 percent canopy cover; (4) an average of three to six snags per acre larger than 20 inches DBH and of variable decay classes; and (5) 10 tons of coarse woody debris per acre larger than 20 inches in diameter (at the large end) and of variable decay classes. Within TRPA bald eagle wintering habitat area located near Taylor Creek and Tallac Creek adjacent to wetland, wet meadow, and open water habitats, fuel reduction treatments are designed to result in: (1) Late successional forest type, with an emphasis on Jeffrey pine-dominated stands; (2) retention of trees that are larger in diameter and taller than the dominant tree canopy, with an emphasis on trees greater than 40 inches DBH and greater than 98 feet tall and on dead topped trees with robust, open branch structures; (3) an average of six snags per acre larger than 20 inches DBH and of variable decay classes. Within osprey habitats adjacent to Fallen Leaf Lake and Lower Echo Lake fuel reduction treatments are designed to result in: (1) Retention of all known standing osprey nest trees; and (2) retention of an average of three trees per acre that are larger in diameter and taller than the dominant tree canopy, with an emphasis on dead topped trees with robust, open branch structures.

Within streamside zones with an overload of standing and down fuels, such as stream reaches that exceed 75% stream shading from dead and down or ladder fuels, hazardous fuel reduction is designed to maintain sufficient shade to ensure that daily mean water temperatures do not increase. Shaded bank conditions on trout streams would be maintained by retaining at least 50% of the stream bank site potential for herbaceous and shrub cover and at least 25% of the site potential for tree cover. Where natural tree cover is less than 20%, 80% of the potential would be retained. Thirty-five to 70% of the stream would be shaded from 11 a.m. to 4 p.m. Large woody debris would remain in place unless stream channel stability needs dictate removal, and for streams lacking large woody debris for fish habitat, trees larger than 12″ DBH would be placed into the stream in locations prescribed by the LTBMU Fisheries Biologist.

Mechanical treatments in RCAs/SEZs are designed to occur at the time of year when soils are sufficiently dry and to avoid impacts to fish migration and/or spawning. Mechanical treatment techniques that are successful in the Heavenly Valley Creek SEZ Demonstration project, the Celio Ranch Project (private land), or other successful projects that occur in RCAs and SEZs would be used for South Shore SEZ areas. Use of equipment that is lighter on the land, rubber-tired equipment, equipment that operates on a bed of slash, and other innovative technologies would reduce impacts to soils. Best Management Practices would be implemented during project activities. Burn piles would be located outside of SEZs. Fuel reduction activities are scheduled to reduce the Risk Ratio by providing watershed recovery time between treatments within the same watersheds.

Within areas of greater than 30 percent slope or soils too wet to withstand mechanical equipment, hand treatments would be used in RCAs/SEZs needing fuels treatments. Mechanical equipment use would not be allowed in and adjacent to special aquatic features (springs, seeps, vernal pools, fens, and marshes); hand treatments would be used in these areas.

Chipping and/or mastication would be used to provide soil cover for bare areas such as temporary roads and landings. Heavy equipment operations would be limited to dry soils, and extensive areas of detrimentally compacted soils (temporary roads and large landings) would be treated to reduce compaction. Mechanical treatments would be used to reduce upland hazardous fuels on slopes generally less than 30% and less sensitive soils, while hand treatments would be used to reduce hazardous fuels on slopes generally greater than 30% and sensitive soils. Prescribed fire would be planned to avoid fire intensity and duration resulting in detrimentally burned soils.

No new permanent road construction would occur. Roads would be maintained and/or restored to Forest Service standards needed to support equipment and trucks needed for activities as well as to protect soil and water quality resources from the impacts of equipment use. Some temporary road construction would be needed. Road BMPs would be implemented during and at the conclusion of project activities. At the conclusion of the project, temporary roads, skid trails, and landings would be closed and stabilized to provide drainage and prevent water accumulation on the roadbed and sedimentation into stream channels.

Barriers along open areas adjacent to road or trail access (i.e. boulders, split rail fence) and signs would be strategically established to prevent post-treatment establishment of user-created routes within treatment areas. Schedule treatment timing to minimize user disturbance from fuel treatments on Forest Service lands within and surrounding special use permit properties, and avoid peak visitor use recreation times in developed recreation areas, when practical. For public safety, temporary area closures to recreation access would be implemented while fuel reduction activities are in progress. Environmental education and notification of area closures would be provided to the public for the project.

To protect historic and pre-historic heritage resources, discrete sites would be flagged for mechanical equipment avoidance. Heritage sites would receive hand treatments to reduce hazardous fuels. In order to preserve arborglyphs, conifer invasion in aspen stands would be reduced, and arborglyphs would be protected during prescribed fire.

Fuel treatments would be used to increase scenic viewing opportunities where existing fuels concentrations prevent attractive views, for example, views of meadows, views of Lake Tahoe, and views of aspen. Cover would be placed on landings, temporary roads, or other cleared areas to blend these areas visually into the surrounding landscape at completion of the project. Fuel reduction treatments would be scheduled to disperse visual impacts both over time and spatially in the landscape. Within foreground views from major travel routes, cut stump heights would be low and burn piles would be located to minimize their visibility. Fuel reduction would be designed to maintain visual variety in the landscape while meeting goals to change wildfire behavior.

Possible Alternatives

Implementation of the South Shore Project would occur entirely within the Wildland Urban Interface of at-risk communities as defined under the Healthy Forest Restoration Act of 2003 (PL 108-148; 16 U.S.C. 6501 et seq.). The proposed action and no action alternatives are currently being considered, consistent with section 104(c).

Lead and Cooperating Agencies

The USDA Forest Service and the LWQCB will be joint lead agencies in accordance with 40 CFR 1501.5(b), and are responsible for the preparation of the EIS/EIR. The Forest Service will serve as the lead agency under NEPA. The LWQCB will serve as the lead agency under CEQA.

Responsible Official

The Forest Service responsible official for the preparation of the EIS/EIR is Terri Marceron, Forest Supervisor, Lake Tahoe Basin Management Unit, 35 College Drive, South Lake Tahoe, CA 96150.

Nature of Decision To Be Made

The Forest Supervisor for the LTBMU will decide whether to adopt and implement the proposed action, an alternative to the proposed action, or take no action to reduce hazardous fuels and restore healthy forest conditions on approximately 12,500 acres in the South Shore area of the LTBMU. Once the decision is made, the LTBMU will publish a record of decision to disclose the rationale for selection of an alternative for implementation.

Scoping Process

The Forest Service has been and will continue to seek information, comments, and assistance from federal, state, and local agencies and other individuals or organizations who may be interested in or affected by the proposed action. The proposed action was originally mailed to interested and affected parties in July of 2007. During this initial scoping phase, it was determined that this proposal could have significant effects on the human environment. Therefore the responsible official elected to prepare a joint environmental impact statement/environmental impact report in accordance with the National Environmental Policy Act (NEPA), and the California Environmental Quality Act (CEQA). In accordance with 40 CFR 1501.7—Scoping, publication of this notice of intent precedes the scoping period for an EIS/EIR. However, since there have been no changes to the proposed action since it was initially scoped in July 2007, those who previously submitted comments on this project need not resubmit them. Scoping comments submitted previously on this project will be retained and treated the same as those received subsequent to this notice.

One joint Forest Service and Lahontan Water Quality Control Board scoping meeting is scheduled for January 23, 2008 from 10 a.m. to noon in the Board Room at Lake Tahoe Community College, 1 College Dr., South Lake Tahoe, CA.

The notice of intent is expected to be published in the Federal Register on January 18, 2008. The comment period on the proposed action will extend 30 days from the date the notice of intent is published in the Federal Register. The draft environmental impact statement/draft environmental impact report is expected to be filed with the Environmental Protection Agency (EPA) and to be available for public review by April 2008. EPA will publish a notice of availability of the draft EIS/EIR in the Federal Register. The comment period on the draft EIS/EIR will extend 45 days from the date the EPA notice appears in the Federal Register. At that time, copies of the draft EIS/EIR will be distributed to interested and affected agencies, organizations, and members of the public for their review and comment. It is very important that those interested in the management of the Lake Tahoe Basin Management Unit participate at that time. The final EIS/EIR is scheduled to be completed in August 2008. In the final EIS/EIR, the Forest Service is required to respond to substantive comments received during the comment period that pertain to the environmental consequences discussed in the draft EIS/EIR and applicable laws, regulations, and policies considered in making the decision. Substantive comments are defined as “comments within the scope of the proposed action, specific to the proposed action, and have a direct relationship to the proposed action, and include supporting reasons for the responsible official to consider” (36 CFR 215.2). Submission of substantive comments is a prerequisite for eligibility to object under the Healthy Forest Restoration Act of 2003.

Permits or Licenses Required

Lahontan Water Quality Control Board—2007 Timber Waiver and/or Permit for Waste Discharge.

Comment Requested

This notice of intent initiates the scoping process which guides the development of the environmental impact statement. In accordance with the Healthy Forest Restoration Act (HFRA) of 2003 (Pub. L. 108-148; 16 U.S.C. 6501 et seq.), this project is subject to a special administrative review process whereby a person may seek relief for issues concerning this proposal before the responsible official makes her final decision. To be eligible to request an administrative review, a person must comment during scoping or the public comment period on the draft environmental impact statement by providing specific written comments that relate to the proposed action.

Early Notice of Importance of Public Participation in Subsequent Environmental Review

A draft environmental impact statement will be prepared for comment. The draft environmental impact statement is expected to be filed with the Environmental Protection Agency (EPA) and to be available for public review by April 2008. EPA will publish a notice of availability of the draft EIS/EIR in the Federal Register. The comment period on the draft EIS/EIR will extend 45 days from the date the EPA notice appears in the Federal Register. At that time, copies of the draft EIS/EIR will be distributed to interested and affected agencies, organizations, and members of the public for their review and comment. It is very important that those interested in the management of the Lake Tahoe Basin Management Unit participate at that time.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points. Comments received, including the names and addresses of those who comment, will be considered part of the public record on this proposal and will be available for public inspection.

(Authority: 40 CFR 1501.7 and 1508.22; Forest Service Handbook 1909.15, Section 21)

Dated: January 8, 2008.
Terri Marceron,
LTBMU Forest Supervisor.

[FR Doc. E8-668 Filed 1-15-08; 8:45 am]

BILLING CODE 3410-11-P